ENVIRONMENTAL PROTECTION AGENCY

40 CFR Part 52

[MA077-7210b; A-1-FRL-6709-4]

Approval and Promulgation of Air Quality Implementation Plans; Massachusetts; VOC Regulation for Large Commercial Bakeries

AGENCY: Environmental Protection Agency (EPA).

ACTION: Proposed rule.

SUMMARY: EPA is proposing to approve a State Implementation Plan (SIP) revision submitted by the Commonwealth of Massachusetts. This revision establishes and requires Large Commercial Bakeries to meet VOC Reasonably Available Control Technology (RACT) requirements. In the Final Rules section of this Federal Register, EPA is approving the State's SIP revision as a direct final rule without prior proposal because the Agency views this as a noncontroversial revision and anticipates no adverse comments. A detailed rationale for the approval is set forth in the direct final rule. If no adverse comments are received in response to that direct final rule, no further activity is contemplated in relation to this proposed rule. If EPA receives adverse comments, the direct final rule will be withdrawn and all public comments received will be addressed in a subsequent final rule based on this proposed rule. EPA will not institute a second comment period on this proposal. Any parties interested in commenting on this proposal should do so at this time.

DATES: Comments must be received on or before August 4, 2000.

ADDRESSES: Comments may be mailed to David Conroy, Manager, Air Quality Planning Unit, U.S. Environmental Protection Agency New England, Suite 1100, One Congress Street, Boston, MA 02114. Copies of the State submittal and EPA's technical support document are available for public inspection during normal business hours, by appointment at the Office of Ecosystems Protection, U.S. Environmental Protection Agency, Region I, One Congress Street, 11th floor, Boston, MA and the Division of Air Quality Control, Department of Environmental Protection, One Winter Street, 8th Floor, Boston, MA 02108.

FOR FURTHER INFORMATION CONTACT: Jeanne Cosgrove, (617) 918-1669.

SUPPLEMENTARY INFORMATION: For additional information, see the direct final rule which is located in the Rules section of this Federal Register.

Authority: 42 U.S.C. 7401—7671q.

Dated: April 26, 2000.
Mindy S. Lubber,
Regional Administrator, EPA New England.

[FR Doc. 00-15910 Filed 7-3-00; 8:45 am]

BILLING CODE 6560-50-P